FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 6, 2022.

A. Federal Reserve Bank of St. Louis (Holly A. Rieser, Senior Manager) P.O. Box 442, St. Louis, Missouri 63166-2034. Comments can also be sent electronically to Comments.applications@stls.frb.org:

1. The Trager Family Foundation Trust, Steven E. Trager, as trustee, both of Louisville, Kentucky; to join the Trager Family Control Group, a group acting in concert, to retain voting shares of Republic Bancorp, Inc., and thereby indirectly retain voting shares of Republic Bank & Trust Company, both of Louisville, Kentucky.

2. Jeffrey Joe Stinson, Milan, Tennessee; the Patricia Ross Jones 2021 GST-Exempt ESBT Trust, Patricia Jones, as trustee, both of Trenton, Tennessee; the Linda Ross Szopinski 2021 GST-Exempt ESBT Trust, Linda Szopinski, as trustee, the John W. Ross 2021 GST-Exempt ESBT Trust, John Ross, as trustee, the Sandra K. Ross 2021 GST-Exempt ESBT Trust, Sandra Stinson, as trustee, John W. Ross and Missy Ross, James Szopinski, Community National Bank f/b/o Jeffrey Stinson IRA, all of Milan, Tennessee; and Barry Jones, Trenton, Tennessee; a group acting in concert to acquire and retain voting shares of Hometown Bancorp, Inc., and thereby indirectly acquire and retain voting shares of The Bank of Milan, both of Milan, Tennessee.

Board of Governors of the Federal Reserve System.
Michele Taylor Fennell,
Deputy Associate Secretary of the Board.

[FR Doc. 2022-17824 Filed 8-18-22; 8:45 am]

BILLING CODE P